SMALL BUSINESS ADMINISTRATION

[Declaration of Disaster #3361]

Commonwealth of Kentucky

As a result of the President's major disaster declaration on August 16, 2001, I find that Floyd, Knott, Letcher, Perry and Pike Counties in the Commonwealth of Kentucky constitute a disaster area due to damages caused by severe storms and flooding that occurred on July 27, 2001 and continued through August 21, 2001. Applications for loans for physical damage as a result of this disaster may be filed until the close of business on October 15, 2001 and for economic injury until the close of business on May 16, 2002 at the address listed below or other locally announced locations: U.S. Small Business Administration, Disaster Area 2 Office, One Baltimore Place, Suite 300, Atlanta, GA 30308.

In addition, applications for economic injury loans from small businesses located in the following contiguous counties in Kentucky may be filed until the specified date at the above location: Breathitt, Clay, Harlan, Johnson, Leslie, Magoffin, Martin and Owsley; Buchanan, Dickenson and Wise counties in the Commonwealth of Virginia; and Mingo county in the State of West Virginia.

The interest rates are:

| Percent
For Physical Damage:
Homeowners With Credit Available Elsewhere | 6.625
Homeowners Without Credit Available Elsewhere | 3.312
Businesses With Credit Available Elsewhere | 8.000
Businesses and Non-Profit Organizations Without Credit Available Elsewhere | 4.000
Others (Including Non-Profit Organizations) With Credit Available Elsewhere | 7.125
For Economic Injury
Businesses and Small Agricultural Cooperatives Without Credit Available Elsewhere | 4.000

The number assigned to this disaster for physical damage is 336111. For economic injury the number is 9M4000 for Kentucky; 9M4100 for Virginia; and 9M4200 for West Virginia.

(Catalog of Federal Domestic Assistance Program Nos. 59002 and 59008).
Dated: August 24, 2001.
S. George Camp,
Acting Associate Administrator For Disaster Assistance.

[FR Doc. 01-21991 Filed 8-30-01; 8:45 am]

BILLING CODE 8025-01-P